SECURITIES AND EXCHANGE COMMISSION

[Release No. IC-24318]

Notice of Applications for Deregistration Under Section 8(f) of the Investment Company Act of 1940

February 25, 2000.

The following is a notice of applications for deregistration under section 8(f) of the Investment Company Act of 1940 for the month of February 2000. A copy of each application may be obtained for a fee at the SEC's Public Reference Branch, 450 Fifth St., NW, Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on March 21, 2000, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW, Washington, DC 20549-0609. For Further Information Contact: Diane L. Titus, at (202) 942-0564, SEC, Division of Investment Management, Office of Investment Company Regulation, 450 Fifth Street, NW, Washington, DC 20549-0506.

Putnam High Quality Bond Fund [File No. 811-4617]

Summary: Applicant seeks an order declaring that it has ceased to be an investment company. On July 12, 1999, applicant transferred its assets to Putnam American Government Income Fund based on net asset value. Legal and accounting expenses of $70,000 incurred in connection with the reorganization were paid by applicant and the acquiring fund in proportion to their net assets. In addition, proxy expenses of $145,000 were paid by applicant.

Filing Date: The application was filed on January 19, 2000.

Applicant's Address: One Post Office Square, Boston, Massachusetts 02109.

Kemper Europe Fund [File No. 811-7479]

Summary: Applicant seeks an order declaring that it has ceased to be an investment company. On September 3, 1999, applicant transferred its assets to Kemper New Europe Fund, Inc., based on net asset value. Expenses of $815,000 were incurred in connection with the reorganization, of which applicant paid $138,398 and the acquiring fund paid $676,602.

Filing Dates: The application was filed on January 12, 2000, and amended on January 28, 2000.

Applicant's Address: 222 South Riverside Plaza, Chicago, Illinois 60606.

Bay Funds [File No. 811-6296]

Summary: Applicant seeks an order declaring that it has ceased to be an investment company. By December 9, 1996, Applicant had transferred its assets to 1784 Funds, based on net asset value. Expenses incurred in connection with the reorganization were paid by BayBank, N.A. and BayBank Investment Management, Inc. (now known as The First National Bank of Boston), applicant's investment adviser and its affiliates.

Filing Dates: The application was filed on June 5, 1997, and amended on January 26,2000.

Applicant's Address: 1001 Liberty Avenue, Pittsburgh, Pennsylvania 15222-3779.

Dreyfus Premier Insured Municipal Bond Fund [File No. 811-7682]

Summary: Applicant seeks an order declaring that it has ceased to be an investment company. On November 16, 1998, applicant made a final liquidating distribution to its shareholders based on net asset value. Expenses of approximately $1,362 incurred in connection with the liquidation were paid by The Dreyfus Corporation applicants's investment adviser.

Filing Date: The application was filed on February 2, 2000.

Applicant's Address: 200 Park Avenue, New York, New York 10166.

Carillon Investment Trust [File No. 811-5293]

Summary: Applicant seeks an order declaring that it has ceased to be an investment company. On October 29, 1999, applicant made a liquidating distribution to its shareholders based on net asset value. Applicant states that any expenses incurred in connection with the liquidation would be paid by applicants's investment adviser.

Filing Date: The application was filed on February 11, 2000.

Applicant's Address: 1876 Waycross Road, Cincinnati, Ohio 45240.

The Griffin Funds, Inc. [File No. 811-7948]

Summary: Applicant seeks an order declaring that it has ceased to be an investment company. On March 5, 1999, applicant transferred its assets to corresponding series of WM Trust I and WM Trust II based on net asset value. Expenses of approximately $1,760,000 incurred in connection with the reorganization ware paid by WM Advisors, Inc., investment adviser to WM Trust I and WM Trust II.

Filing Dates: The application was filed on December 10, 1999 and amended on February 11, 2000.

Applicant's Address: c/o John T. West, WM Advisors Inc., 1201 Third Avenue, 22nd Floor, Seattle, Washington 98101.

Colorado Double Tax-Exempt Bond Fund, Inc. [File No. 811-8023]

Summary: Applicant seeks an order declaring that it has ceased to be an investment company. All shareholders of applicant have redeemed their shares at net asset value. Expenses of approximately $1,410 incurred in connection with the liquidation were paid by Isaak Bond Investments, Inc., applicant's principal underwriter.

Filing Dates: The application was filed on November 12, 1999, and amended on January 18, 2000.

Applicant's Address: 600 Seventeenth Street, Suite 2610, South Tower, Denver, Colorado 80202.

Pegasus Funds [File No. 811-5148]

Summary: Applicant seeks an order declaring that it has ceased to be an investment company. On March 29, 1999, applicant completed the transfer of its assets to The One Group ®, based on net asset value. Expenses of approximately $1,862,760 were incurred in connection with the reorganization. Applicant and The One Group ® were each responsible for their own expenses in connection with the reorganization. Banc One Investment Advisors Corporation, investment adviser to The One Group ®, assumed the costs of proxy solicitations.

Filing Date: The application was filed on November 10, 1999, and amended on February 11, 2000.

Applicant's Address: P.O. Box 5142, Westborough, Massachusetts 01581.

Liquid Capital Income Trust [File No. 811-2528]; Carnegie Government Securities Trust [File No. 811-3037]; Carnegie Tax Free Income Trust [File No. 811-3446]; Carnegie Tax Exempt Income Trust [File No. 811-4538]

Summary: Each applicant seeks an order declaring that it has ceased to be an investment company. By November 19, 1999, each applicant had made a liquidating distribution to its shareholders based on net asset value. Expenses of $49,300; $14,300; $14,300; and $14,700, respectively, incurred in connection with the liquidations were paid by each applicant.

Filing Date: Each application was filed on February 4, 2000.

Applicant's Address: 1100 The Halle Building, 1228 Euclid Avenue, Cleveland, Ohio 44115.

The Chancellor Targeted Health Care Fund, Inc. [File No. 811-6633]

Summary: Applicant seeks an order declaring that it has ceased to be an investment company. Applicant has not made a public offering of its securities and does not propose to make any public offering or engage in business of any kind.

Filing Dates: The application was filed on February 10, 2000.

Applicant's Address: c/o INVESCO, Inc., 1166 Avenue of the Americas, New York, New York 10036.

Marketvest Funds (formerly Court Street Funds) [File No. 811-7383]; Marketvest Funds, Inc. (formerly Court Street Funds, Inc.) [File No. 811-7385]

Summary: Each applicant seeks an order declaring that it has ceased to be an investment company. By March 27, 1998, each series of each applicant transferred its assets and liabilities to corresponding series of ARK Funds, based on net asset value. Expenses of $344,300, incurred in connection with the reoganizations were paid by First Maryland Bancorp, the corporate parent of applicants' investment adviser.

Filing Date: Each application was filed on January 26, 2000.

Applicant's Address: c/o Allfirst Trust Company, N.A., 25 South Charles Street, Mail Stop: 101-621, Legal and Compliance, Baltimore, Maryland 21201.

Farm Bureau Life Variable III [File No. 811-8969]

Summary: Applicant seeks an order declaring that it has ceased to be an investment company. Applicant has not made any public offering of its securities and is not now engaged, or intending to engage, in any business activities other than those necessary for winding up its affairs.

Filing Dates: The application was filed on December 20, 1999, and amended on February 15, 2000.

Applicant's Address: 5400 University Avenue, West Des Moines, Iowa 50266.

For the Commission, by the Division of Investment Management, pursuant to delegated authority.
Jonathan G. Katz,
Secretary.

[FR Doc. 00-5182 Filed 3-2-00; 8:45 am]

BILLING CODE 8010-01-M